ENVIRONMENTAL PROTECTION AGENCY

40 CFR Part 82

[FRL-7985-2]

RIN 2060-AN13

Protection of Stratospheric Ozone: Process for Exempting Critical Uses of Methyl Bromide for the 2005 Supplemental Request

AGENCY: Environmental Protection Agency (EPA).

ACTION: Withdrawal of direct final rule.

SUMMARY: Because EPA received adverse comments, we are withdrawing the direct final rule on the supplemental authorization of methyl bromide for critical uses in 2005, published in the Federal Register on August 30, 2005 (70 FR 51270). We stated in the direct final rule that if we received adverse comment by September 29, 2005, we would publish a timely withdrawal in the Federal Register. We received adverse comment on the direct final rule. We will address those comments in a subsequent final action based on the parallel proposal also published on August 30, 2005 (70 FR 51317). As stated in the parallel proposal, we will not institute a second comment period on this action.

DATES: As of October 18, 2005, EPA withdraws the direct final rule published at 70 FR 51270, on August 30, 2005.

ADDRESSES: EPA has established a docket for this action under Docket ID No. OAR 2004-0506. All documents in the docket are listed in the EDOCKET index at http://www.epa.gov/edocket. Although listed in the index, some information is not publicly available, i.e., CBI or other information whose disclosure is restricted by statute. Certain other material, such as copyrighted material, is not placed on the Internet and will be publicly available only in hard copy form. Publicly available docket materials are available either electronically in EDOCKET or in hard copy at the Air Docket, EPA/DC, EPA West, Room B102, 1301 Constitution Ave., NW., Washington, DC 20460. This Docket Facility is open from 8:30 a.m. to 4:30 p.m., Monday through Friday, excluding legal holidays. The telephone number for the Public Reading Room is (202) 566-1744, and the telephone number for the Air Docket is (202) 566-1742.

FOR FURTHER INFORMATION CONTACT: For further information about this action, contact Marta Montoro by telephone at (202) 343-9321, or by e-mail at mebr.allocation@epa.gov, or by mail at Marta Montoro, U.S. Environmental Protection Agency, Stratospheric Protection Division, (6205J), 1200 Pennsylvania Avenue, NW., Washington, DC 20460. Overnight or courier deliveries should be sent to 1310 L St., NW., Washington, DC 20005, Attn: Marta Montoro. You may also visit the Ozone Depletion Web site of EPA's Stratospheric Protection Division at http://www.epa.gov/ozone/index.html for further information about EPA's Stratospheric Ozone Protection regulations, the science of ozone layer depletion, and other topics.

SUPPLEMENTARY INFORMATION: On August 30, 2005, we published a direct final rule (70 FR 51270) and parallel proposal (70 FR 51317) supplementing the critical stock allowances (CSAs) previously allocated for 2005, as published in the Federal Register on December 23, 2004 (69 FR 76982), and amending the list of approved critical uses. EPA exempted methyl bromide for critical uses beyond the phaseout under the authority of the Clean Air Act and in accordance with the Montreal Protocol on Substances that Deplete the Ozone Layer. The preamble to the direct final rule stated that if we received adverse comment by September 29, 2005, we would publish a timely notice of withdrawal in the Federal Register. EPA received adverse comment on the direct final rule. Accordingly, we are withdrawing the direct final rule as of October 18, 2005. EPA will take final action on the parallel proposal after considering the comments received. As stated in the parallel proposal, EPA will not institute a second comment period on this action.

List of Subjects in 40 CFR Part 82

Environmental protection, Chemicals, Methyl Bromide, Ozone, Reporting and recordkeeping requirements, Treaties.

Dated: October 11, 2005.
William L. Wehrum,
Acting Assistant Administrator for the Office of Air and Radiation.

[FR Doc. 05-20813 Filed 10-17-05; 8:45 am]

BILLING CODE 6560-50-P